DEPARTMENT OF HOMELAND SECURITY

Federal Emergency Management Agency

[Docket ID: FEMA- 2023-0023; OMB No. 1660-0114]

Agency Information Collection Activities: Proposed Collection, Comment Request; FEMA Preparedness Grants: Port Security Grant Program (PSGP)

AGENCY: Federal Emergency Management Agency, Department of Homeland Security.

ACTION: 30-day notice of revision and request for comments.

SUMMARY: The Federal Emergency Management Agency (FEMA), as part of its continuing effort to reduce paperwork and respondent burden, invites the general public to take this opportunity to comment on an extension, with change, of a currently approved information collection. In accordance with the requirements of the Paperwork Reduction Act of 1995, this notice seeks comments concerning the information collection activities required to administer the Port Security Grant Program (PSGP) and an additional new form to facilitate extension requests.

DATES: Comments must be submitted on or before December 18, 2023.

ADDRESSES: To avoid duplicate submissions to the docket, please submit comments at http://www.regulations.gov under Docket ID FEMA-2023-0023. Follow the instructions for submitting comments.

All submissions received must include the Agency name and Docket ID. Regardless of the method used to submitting comments or material, all submissions will be posted, without change, to the Federal eRulemaking Portal at http://www.regulations.gov, and will include any personal information you provide. Therefore, submitting this information makes it public. You may wish to read the Privacy and Security Notice that is available via a link on the homepage of http://www.regulations.gov.

FOR FURTHER INFORMATION CONTACT: Duane Davis, Section Chief, FEMA, Grant Programs Directorate, 202-680-4060, duane.davis@fema.dhs.gov. You may contact the Information Management Division for copies of the proposed collection of information at email address: FEMA-Information-Collections-Management@fema.dhs.gov.

SUPPLEMENTARY INFORMATION: Section 102 of the Maritime Transportation Security Act of 2002, as amended (46 U.S.C. 70107), authorizes the PSGP to provide for the risk-based allocation of funds to implement Area Maritime Transportation Security Plans and facility security plans among port authorities, facility operators, and State and local government agencies required to provide port security services and to train law enforcement personnel under 46 U.S.C. 70132. Before awarding a grant under the program, the Secretary for Homeland Security shall provide for review and comment by the appropriate Federal Maritime Security Coordinators and the Maritime Administrator. In administering the grant program, the Secretary shall consider national economic, energy, and strategic defense concerns based upon the most current risk assessments available.

The PSGP is a Department of Homeland Security grant program that focuses on infrastructure protection activities. The PSGP is one tool in the comprehensive set of measures authorized by Congress and implemented by the Administration to strengthen the Nation's critical infrastructure against risks associated with potential terrorist attacks. The bulk of U.S. critical infrastructure is owned and/or operated by state, local and private sector partners. The PSGP provides funds to state, local, and private sector partners to support increased port-wide risk management and protect critical surface transportation infrastructure from acts of terrorism, major disasters, and other emergencies.

FEMA is making two changes with this revision. First, FEMA is removing the template for a Memorandum of Understanding (or Agreement) from this collection because this informal template has not been required in Fiscal Years 2022 or 2023. Second, FEMA is introducing an extension request form to help reviewers understand the nature and cause of performance delays, inform GPD of grant recipients who are failing to meet policy and legislative grant requirements, and streamline current processes.

This proposed information collection previously published in the Federal Register on September 6, 2023, at 88 FR 60964 with a 60-day public comment period. No comments were received. The purpose of this notice is to notify the public that FEMA will submit the information collection abstracted below to the Office of Management and Budget for review and clearance.

Collection of Information

Title: FEMA Preparedness Grants: Port Security Grant Program (PSGP).

Type of Information Collection: Revision of a currently approved information collection.

OMB Number: 1660-0114.

FEMA Forms: FEMA Form FF-207-FY-23-108 (formerly 089-05), PSGP Investment Justification; FEMA Form FF-207-FY-23-109 (formerly 088-0-1), Grant Programs Directorate Performance Report (GPD-PR), and FEMA Form FF-207-FY-23-110, Grant Programs Directorate Extension Request (GPD-Extension).

Abstract: Section 102 of the Maritime Transportation Security Act of 2002, as amended (46 U.S.C. 70107), authorizes the PSGP to provide for the risk-based allocation of funds to implement Area Maritime Transportation Security Plans and facility security plans among port authorities, facility operators, and State and local government agencies required to provide port security services and to train law enforcement personnel under 46 U.S.C. 70132. Before awarding a grant under the program, the Secretary for Homeland Security shall provide for review and comment by the appropriate Federal Maritime Security Coordinators and the Maritime Administrator. In administering the grant program, the Secretary shall take into account national economic, energy, and strategic defense concerns based upon the most current risk assessments available.

Affected Public: State, Local or Tribal Government and Private Sector.

Estimated Number of Respondents: 966.

Estimated Number of Responses: 1,832.

Estimated Total Annual Burden Hours: 17,446.

Estimated Total Annual Respondent Cost: $1,462,290.

Estimated Respondents' Operation and Maintenance Costs: $0.

Estimated Respondents' Capital and Start-Up Costs: $0.

Estimated Total Annual Cost to the Federal Government: $1,853,355.

Comments

Comments may be submitted as indicated in the ADDRESSES caption above. Comments are solicited to (a) evaluate whether the proposed data collection is necessary for the proper performance of the Agency, including whether the information shall have practical utility; evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-25487 Filed 11-16-23; 8:45 am]

BILLING CODE 9111-78-P